NUCLEAR WASTE TECHNICAL REVIEW BOARD

Senior Executive Service Performance Review Board

AGENCY: U.S. Nuclear Waste Technical Review Board.

ACTION: Notice of Performance Review Board membership.

SUMMARY: This notice announces the membership of the Nuclear Waste Technical Review Board (NWTRB) Senior Executive Service (SES) Performance Review Board (PRB).

DATES: August 27, 2018.

FOR FURTHER INFORMATION CONTACT: Neysa M. Slater-Chandler by telephone at 703-235-4480, or via email at slater-chandler@nwtrb.gov, or via mail at 2300 Clarendon Blvd., Suite 1300, Arlington, VA 22201.

SUPPLEMENTARY INFORMATION: 5 U.S.C. 4314(c)(1) through (5) requires each agency to establish, in accordance with regulations prescribed by the Office of Personnel Management, one or more SES Performance Review Boards.

The PRB shall review and evaluate the initial summary rating of a senior executive's performance, the executive's response, and the higher-level official's comments on the initial summary rating. In addition, the PRB will review and recommend executive performance bonuses and pay increases.

5 U.S.C. 4314(c)(4) requires the appointment of board members to be published in the Federal Register. The following persons comprise a standing roster to serve as members of the SES PRB for the U.S. Nuclear Waste Technical Review Board:

Laura Dudes, Deputy Regional Administrator, Nuclear Regulatory Commission, Region II, Atlanta, GA

Raymond Lorson, Director, Division of Reactor Projects, Nuclear Regulatory Commission, Region I, King of Prussia, PA

Katherine R. Herrera, Technical Director, Defense Nuclear Facilities Safety Board, Washington, DC

Timothy J. Dwyer, Associate Technical Director for Nuclear Materials Processing and Stabilization, Defense Nuclear Facilities Safety Board, Washington, DC

Richard E. Tontodonato, Associate Technical Director for Nuclear Weapon Programs, Defense Nuclear Facilities Safety Board, Washington, DC

Authority: 42 U.S.C. 10262.

Dated: August 22, 2018.
Neysa M. Slater-Chandler,
Director of Administration, U.S. Nuclear Waste Technical Review Board.

[FR Doc. 2018-18726 Filed 8-28-18; 8:45 am]

BILLING CODE 6820-AM-P